SECURITIES AND EXCHANGE COMMISSION

[File No. 500-1]

Order of Suspension of Trading

In the Matter of Asset Equity Group, Inc., GEMZ Corp., Household Direct, Inc., International Brands, Inc., Interspace Enterprises, Inc., Mega Micro Technologies Group, Inc., and Vertical Computer Systems, Inc.

It appears to the Securities and Exchange Commission that there is a lack of current and accurate information concerning the securities of:

(1) Asset Equity Group, Inc. because the company has been delinquent in its periodic filing obligations under Section 13(a) of the Securities Exchange Act of 1934 since the period ending December 31, 2001;

(2) GEMZ Corp.;

(3) Household Direct, Inc. because the company has been delinquent in its periodic filing obligations under Section 13(a) of the Securities Exchange Act of 1934 since the period ending March 31, 2002;

(4) International Brands, Inc. because the company has been delinquent in its periodic filing obligations under Section 13(a) of the Securities Exchange Act of 1934 since the period ending December 31, 2000;

(5) Interspace Enterprises, Inc. because the company has been delinquent in its periodic filing obligations under Section 13(a) of the Securities Exchange Act of 1934 since the period ending September 30, 2002;

(6) Mega Micro Technologies Group, Inc. because the company has been delinquent in its periodic filing obligations under Section 13(a) of the Securities Exchange Act of 1934 since the period ending December 31, 2000; and

(7) Vertical Computer Systems, Inc. because the company has been delinquent in its periodic filing obligations under Section 13(a) of the Securities Exchange Act of 1934 since the period ending September 30, 2003.

The Commission is of the opinion that the public interest and the protection of investors require a suspension of trading in the securities of the above-listed companies.

Therefore, it is ordered, pursuant to Section 12(k) of the Securities Exchange Act of 1934 that trading in the securities of the above-listed companies is suspended for the period from 9:30 a.m. e.s.t. on December 1, 2004, through 11:59 p.m. e.s.t. on December 14, 2004.

By the Commission.
Jonathan G. Katz,
Secretary.

[FR Doc. 04-26715 Filed 12-1-04; 11:48 am]

BILLING CODE 8010-01-P